EXECUTIVE OFFICE OF THE PRESIDENT

Office of National Drug Control Policy

Designation of Five Areas as High Intensity Drug Trafficking Areas

AGENCY: Office of National Drug Control Policy (ONDCP), Executive Office of the President.

ACTION: Notice of five High Intensity Drug Trafficking Areas (HIDTA) designations.

SUMMARY: The Director of the Office of National Drug Control Policy designated five additional areas as HIDTAs.

FOR FURTHER INFORMATION CONTACT: Questions regarding this notice should be directed to Shannon Kelly, National HIDTA Director, ONDCP, Executive Office of the President, Washington, DC 20503; (202) 841-5240.

SUPPLEMENTARY INFORMATION: The new areas are (1) Yavapai County in Arizona as part of the Arizona HIDTA; (2) Kankakee County in Illinois as part of the Chicago HIDTA; (3) Rensselaer County in New York as part of the New York/New Jersey HIDTA; (4) Beltrami County in Minnesota as part of the North Central HIDTA; and (5) Stearns County in Minnesota as part of the North Central HIDTA.

Authority: 21 U.S.C. 1706(b)(1).

Dated: October 22, 2024.
Brian Skinner,
General Counsel.

[FR Doc. 2024-24949 Filed 10-25-24; 8:45 am]

BILLING CODE 3280-F5-P